INTERNATIONAL TRADE COMMISSION

[Investigation No. 337-TA-1318]

Certain Graphics Systems, Components Thereof, and Digital Televisions Containing the Same; Notice of Commission Decision Not To Review Initial Determinations Terminating the Investigation as to Certain Patent Claims and Granting Complainants' Motion To Amend the Complaint and Notice of Investigation

AGENCY: U.S. International Trade Commission.

ACTION: Notice.

SUMMARY: Notice is hereby given that the U.S. International Trade Commission (“the Commission”) has determined not to review two initial determinations (“IDs”) of the presiding administrative law judge (“ALJ”): (1) Order No. 23 terminating the investigation as to claims 17-21 of U.S. Patent No. 8,468,547 (“the '547 patent”) (collectively, the “Withdrawn Claims”); and (2) Order No. 24 granting complainants' motion to amend the complaint and notice of investigation (“NOI”) in the above-captioned investigation to correct the names of two respondents.

FOR FURTHER INFORMATION CONTACT: Clint Gerdine, Esq., Office of the General Counsel, U.S. International Trade Commission, 500 E Street SW, Washington, DC 20436, telephone (202) 708-2310. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal, telephone (202) 205-1810.

SUPPLEMENTARY INFORMATION: The Commission instituted this investigation on June 7, 2022, based on a complaint filed on behalf of Advanced Micro Devices, Inc. of Santa Clara, California and ATI Technologies ULC of Ontario, Canada (collectively, “Complainants”). 87 FR 34718-19 (Jun. 7, 2022). The complaint, as supplemented, alleges violations of section 337 of the Tariff Act of 1930, as amended, 19 U.S.C. 1337, based upon the importation into the United States, the sale for importation, and the sale within the United States after importation of certain graphics systems, components thereof, and digital televisions containing the same by reason of infringement of certain claims of the '547 patent and U.S. Patent Nos. 7,742,053; 8,760,454; 11,184,628; and 8,854,381. The complaint further alleges that a domestic industry exists and is in the process of being established. The Commission's NOI named fourteen (14) respondents, including: TCL Industries Holdings Co., Ltd., TCL Technology Group Corporation, TCL King Electrical Appliances (Huizhou) Co. Ltd., and Shenzhen TCL New Technologies Co., Ltd., all of Guangdong, China; TCL Industries Holdings (H.K.) Limited, TCL Electronics Holdings Limited f/k/a TCL Multimedia Technology Holdings, Ltd., TTE Corporation, TCL Holdings (BVI) Limited, TCL MOKA International Limited, and TCL Overseas Marketing Ltd., all of New Territories, Hong Kong; TCL Smart Device (Vietnam) Co., Ltd. of Binh Duong Province, Vietnam; Manufacturas Avanzadas SA de CV of Chihuahua, Mexico; TCL Electronics Mexico, S de RL de CV of Distrito Federal, Mexico City, Mexico; and Realtek Semiconductor Corp. of Hsinchu, Taiwan. The Office of Unfair Import Investigations is not participating in the investigation.

On September 16, 2022, Complainants filed an unopposed motion to terminate the investigation as to the Withdrawn Claims based on the withdrawal of the allegations in the complaint as to those claims.

Also on September 16, 2022, Complainants filed an unopposed motion for leave to amend the complaint and NOI to change the name of respondent “TCL Industries Holdings (H.K.) Limited” to “TCL Industries Holdings (H.K.) Co. Limited,” and the name of respondent “Shenzhen TCL New Technologies Co., Ltd.” to “Shenzhen TCL New Technology Co., Ltd.”

On September 20, 2022, the ALJ issued the subject IDs (Order Nos. 23, 24) granting both Complainants' motion for partial termination of the investigation as to the Withdrawn Claims and Complainants' motion for leave to amend the complaint and NOI. Order No. 23 finds that the motion for termination satisfies Commission Rule 210.21(a)(1), 19 CFR 210.21(a)(1), and that no extraordinary circumstances exist that would prevent the requested partial termination. Order No. 24 finds that Complainants have shown good cause to amend the NOI and that “[c]orrection of a Respondent's name is in the interests of the parties and the public.” See Order No. 24 at 2 (quoting Complainants' Motion at 3). No petitions for review were filed.

The Commission has determined not to review the subject IDs. Claims 17-21 of the '547 patent are terminated from this investigation, and the NOI is amended to correct the names of the indicated respondents.

The Commission vote for this determination took place on October 7, 2022.

The authority for the Commission's determination is contained in section 337 of the Tariff Act of 1930, as amended, 19 U.S.C. 1337, and in Part 210 of the Commission's Rules of Practice and Procedure, 19 CFR part 210.

By order of the Commission.
Issued: October 11, 2022.
Katherine Hiner,
Acting Secretary to the Commission.

[FR Doc. 2022-22356 Filed 10-13-22; 8:45 am]

BILLING CODE 7020-02-P